DEPARTMENT OF JUSTICE

Antitrust Division

Notice Pursuant to the National Cooperative Research and Production Act of 1993—Cooperative Research Group on Clean Diesel VI

Notice is hereby given that, on July 16, 2012, pursuant to Section 6(a) of the National Cooperative Research and Production Act of 1993, 15 U.S.C. 4301 et seq. (“the Act”), Southwest Research Institute—Cooperative Research Group on Clean Diesel VI (“Clean Diesel VI”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Borgwarner, Inc., Auburn Hills, MI; Robert Bosch LLC, Farmington Hills, MI; Caterpillar, Inc., Peoria, IL; Cummins, Columbus, IN; DAF Trucks N.V., Eindhoven, NETHERLANDS; Deere and Co., Waterloo, IA; Doosan Infracore Co., Ltd., Incheon, KOREA; Eaton, Marshall, MI; Federal Mogul Corp., Plymouth, MI; Honeywell International, Inc., Torrance, CA; Isuzu Motors Limited, Fujisawa, JAPAN; Jacobs Vehicle Systems, Bloomfield, CT; Lubrizol Corp., Wickliffe, OH; Mack Trucks, Inc. D/B/A Volvo Powertrain North America, Hagerstown, MD; Navistar, Inc., Melrose Park, IL; Tata Motors, Ltd., Mumbai, INDIA; Toyota Motor Corp., Shizuoka, JAPAN; and VanDyne Superturbo, Inc., Fort Collins, CO.

The general area of Clean Diesel VI's planned activity is to pursue high efficiency engines to meet the needs of the industry 5 to 10 years into the future. The primary fuel for the study is diesel, but alternatives may also be studied, including dual-fuel (diesel plus gasoline) and diesel alternatives such as GTL and bio-diesel. The goal of Clean Diesel VI includes research and demonstration of technologies to achieve 55% engine-system efficiency (engine goal of approximately 48% BTE and waste energy recovery of 55% BTE total). Clean Diesel VI will perform research in the following technology areas: combustion systems, boost systems, waste heat recovery, and advanced friction reduction.

Patricia A. Brink,
Director of Civil Enforcement, Antitrust Division.

[FR Doc. 2012-19599 Filed 8-9-12; 8:45 am]

BILLING CODE P